ENVIRONMENTAL PROTECTION AGENCY

40 CFR PART 52

[WI107-01-7337b; FRL-7064-5]

Approval and Promulgation of Implementation Plans; Wisconsin

AGENCY: Environmental Protection Agency (EPA).

ACTION: Proposed rule.

SUMMARY: EPA is proposing to approve revisions to the minor source/minor modification pre-construction permitting requirements for Wisconsin Electric Power Company's (WE's) Pleasant Prairie Power Plant. The Pleasant Prairie Power Plant is located in Kenosha County at 8000 95th Street, Pleasant Prairie, Wisconsin. The Wisconsin Department of Natural Resources (WDNR) submitted the revised requirements on February 9, 2001, as amendments to its State Implementation Plan (SIP). The revisions include the expansion of the State's general construction permit exemption to include certain activities at the Pleasant Prairie facility. This SIP revision will not have an adverse effect on air quality.

DATES: EPA must receive written comments on this proposed rule by December 10, 2001.

ADDRESSES: You should mail written comments to: Robert Miller, Chief, Permits and Grants Section MI/MN/WI, Air Programs Branch (AR-18J), U.S. Environmental Protection Agency, Region 5, 77 West Jackson Boulevard, Chicago, Illinois 60604.

You may inspect copies of the State submittal and EPA's analysis of it at: Permits and Grants Section MI/MN/WI, Air Programs Branch (AR-18J), U.S. Environmental Protection Agency, Region 5, 77 West Jackson Boulevard, Chicago, Illinois 60604.

FOR FURTHER INFORMATION CONTACT: Robert Miller, Chief, Permits and Grants Section MI/MN/WI, Air Programs Branch (AR-18J), U.S. Environmental Protection Agency, Region 5, 77 West Jackson Boulevard, Chicago, Illinois 60604, (312) 353-0396.

SUPPLEMENTARY INFORMATION: Throughout this document wherever “we”, “us”, or “our” is used we mean EPA.

Table of Contents

I. What action is EPA Taking Today?

II. Where Can I find more information about this proposal and the corresponding direct final rule?

I. What Action Is EPA Taking Today?

We are proposing to approve revisions to pre-construction permitting requirements for WE's Pleasant Prairie Power Plant. The Pleasant Prairie Power Plant is located in Kenosha County at 8000 95th Street, Pleasant Prairie, Wisconsin. WDNR submitted the revised requirements on February 9, 2001, as amendments to its SIP. The revisions include the expansion of the State's general construction permit exemption to include certain activities at the Pleasant Prairie facility.

II. Where Can I Find More Information About This Proposal and the Corresponding Direct Final Rule?

For additional information see the direct final rule published in the rules section of this Federal Register.

Dated: September 10, 2001.
David A. Ullrich,
Acting Regional Administrator, Region 5.

[FR Doc. 01-27830 Filed 11-7-01; 8:45 am]

BILLING CODE 6560-50-P